DEPARTMENT OF COMMERCE

National Oceanic and Atmospheric Administration

[I.D. 013006C]

North Pacific Fishery Management Council; Public Meeting

AGENCY: National Marine Fisheries Service (NMFS), National Oceanic and Atmospheric Administration (NOAA), Commerce.

ACTION: Notice of a public meeting of the North Pacific Fishery Management Council's Pacific Northwest Crab Industry Advisory Committee (PNCIAC).

SUMMARY: The PNCIAC will convene a meeting on Thursday, February 23, 2006, in Seattle, WA. The meeting is open to the public.

DATES: The meeting will be held on Thursday, February 23, 2006, from 9 a.m. to 2 p.m.

ADDRESSES: The meeting will be held at the Leif Erikson Hall, 2245 NW 57th Street, Seattle, WA 98107 (in Ballard).

Council address: North Pacific Fishery Management Council, 605 W. 4th Ave., Suite 306, Anchorage, AK 99501-2252.

FOR FURTHER INFORMATION CONTACT: Dr. Diana Stram, Council Staff, telephone: (907) 271-2809.

SUPPLEMENTARY INFORMATION:

Agenda

1. Discussion and recommendation on the Alaska Crab Coalition (ACC) proposal before the Board of Fisheries to review and consider adjusting or eliminating the minimum total allowable catch (TAC) for reopening the Eastern District (Bristol Bay) bairdi fishery and other king crab fisheries.

2. Discussion of Bristol Bay king crab harvest strategy and 2005 season management concerns.

3. Discussion of Bering Sea opilio crab harvest strategy and management concerns.

Although non-emergency issues not contained in this agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Gail Bendixen at (907) 271-2809 at least 7 working days prior to the meeting date.

Dated: January 30, 2006.
Tracey L. Thompson,
Acting Director, Office of Sustainable Fisheries, National Marine Fisheries Service.

[FR Doc. E6-1407 Filed 2-1-06; 8:45 am]

BILLING CODE 3510-22-S